ENVIRONMENTAL PROTECTION AGENCY

[FRL-7859-1]

National Drinking Water Advisory Council's Water Security Working Group Meeting Announcement

AGENCY: Environmental Protection Agency.

ACTION: Notice.

SUMMARY: The Environmental Protection Agency (EPA) announces the fourth public meeting of the Water Security Working Group (WSWG) of the National Drinking Water Advisory Council (NDWAC), which was established under the Safe Drinking Water Act. The purpose of this meeting is to provide an opportunity for the WSWG members to continue deliberations on the features of active and effective security programs for drinking water and wastewater utilities (water sector), to continue deliberations on incentives to encourage broad adoption of active and effective security programs in the water sector, and to continue deliberations on measures of the performance of water security programs. The focus of the meeting will be on review of draft recommendations on incentives and development of performance measures. The WSWG findings and recommendations will be provided to the NDWAC for their consideration. The WSWG anticipates providing findings and recommendations to the NDWAC in spring 2005. One additional meeting of the WSWG is planned and will be announced in the near future.

DATES: The WSWG meeting is January 25-27, 2004, in Phoenix, Arizona. On January 25, 2005, the meeting is scheduled from 2 p.m. to 6 p.m., mountain time (m.t.). On January 26, 2005, the meeting is scheduled from 8 a.m. to 5 p.m., m.t. On January 27, 2005, the meeting is scheduled from 8 a.m. to 4 p.m., m.t.

ADDRESSES: The meeting will take place at the City of Phoenix Water Services Department Training Room, 9th Floor, 200 West Washington Street, Phoenix, AZ 85003. Parking is available at the City's facilities at 305 West Washington Street. Water Services' reception will be able to validate your parking; please remember to bring your ticket with you. Once in the building, proceed to the 9th floor and check-in at the reception desk—you will then be directed to the meeting room, which is just beyond reception.

FOR FURTHER INFORMATION CONTACT: Interested participants from the public should contact Marc Santora, Designated Federal Officer, U.S. Environmental Protection Agency, Office of Ground Water and Drinking Water, Water Security Division (Mail Code 4601-M), 1200 Pennsylvania Avenue, NW., Washington, DC 20460. Please contact Marc Santora at santora.marc@epa.gov or call 202-564-1597 to receive additional details.

SUPPLEMENTARY INFORMATION:

Background

The WSWG mission is to: (1) Identify, compile, and characterize best security practices and policies for drinking water and wastewater utilities and provide an approach for considering and adopting these practices and policies at a utility level; (2) consider mechanisms to provide recognition and incentives that facilitate a broad and receptive response among the water sector to implement these best security practices and policies and make recommendations as appropriate; (3) consider mechanisms to measure the extent of implementation of these best security practices and policies, identify the impediments to their implementation, and make recommendations as appropriate. The WSWG is comprised of sixteen members from water and wastewater utilities, public health, academia, state regulators, and environmental and community interests. Technical experts from the Environmental Protection Agency, the Department of Homeland Security, the Centers for Disease Control and Prevention, and the Department of Defense are also actively supporting the WSWG.

Closed and Open Parts of the Meeting

The WSWG is a working group of the NDWAC; it is not a Federal advisory committee and therefore not subject to the same public disclosure laws that govern Federal advisory committees. The Group can enter into closed session as necessary to provide an opportunity to discuss security-sensitive information relating to specific water sector vulnerabilities and security tactics. Currently, the WSWG does not anticipate closing any parts of the January meeting to the public. However, the Group reserves the right to enter into closed session, if necessary, late in the afternoon of January 25, 2005, immediately before lunch on January 26, 2005, and late in the day on January 27, 2005. If closed sessions are needed, opportunities for public comment will be provided before the closed sessions begin.

If there is a closed meeting session, only WSWG members, Federal resource personnel, facilitation support contractors and outside experts identified by the facilitation support contractors will attend the closed meetings. A general summary of the topics discussed during closed meetings and the individuals present will be included with the summary of the open portions of the WSWG meeting.

Public Comment

An opportunity for public comment will be provided during the open part of the WSWG meeting. Oral statements will be limited to five minutes, and it is preferred that only one person present the statement on behalf of a group or organization. Written comments may be provided at the meeting or may be sent, by mail, to Marc Santora, Designated Federal Officer for the WSWG, at the mail or e-mail address listed in the FOR FURTHER INFORMATION CONTACT section of this notice.

Special Accommodations

Any person needing special accommodations at this meeting, including wheelchair access, should contact Marc Santora, Designated Federal Officer, at the number or e-mail address listed in the FOR FURTHER INFORMATION CONTACT section of this notice. Requests for special accommodations should be made at least five business days in advance of the WSWG meeting.

Dated: January 4, 2005.
Cynthia C. Dougherty,
Director, Office of Ground Water and Drinking Water.

[FR Doc. 05-425 Filed 1-7-05; 8:45 am]

BILLING CODE 6560-50-P